DEPARTMENT OF TRANSPORTATION

Coast Guard

33 CFR Part 117

[CGD01-01-147]

Drawbridge Operation Regulations: Shaw Cove, CT

AGENCY: Coast Guard, DOT.

ACTION: Notice of temporary deviation from regulations.

SUMMARY: The Commander, First Coast Guard District, has issued a temporary deviation from the drawbridge operation regulations governing the operation of the Amtrak Bridge, at mile 0.0, across the Shaw Cove at New London, Connecticut. This deviation allows bridge to remain closed from 10 p.m. on September 16, 2001 through 10 p.m. on September 19, 2001. This action is necessary to facilitate necessary maintenance at the bridge.

DATES: This deviation is effective September 16, 2001 through September 19, 2001.

FOR FURTHER INFORMATION CONTACT: Joseph Schmied, Project Officer, First Coast Guard District, at (212) 668-7165.

SUPPLEMENTARY INFORMATION: The Amtrak Bridge, at mile 0.0, across the Shaw Cove has a vertical clearance of 3 feet at mean high water, and 6 feet at mean low water in the closed position. The existing drawbridge operating regulations are listed at 33 CFR 117.223.

The bridge owner, the National Railroad Passenger Corporation (Amtrak), requested a temporary deviation from the drawbridge operating regulations to facilitate necessary maintenance, to replace the vertical couplers, at the bridge. This deviation from the operating regulations allows the bridge owner to keep the bridge in the closed position from 10 p.m. on September 16, 2001 through 10 p.m. on September 19, 2001. Vessels that can pass under the bridge without an opening may do so at all times during the closed period.

This deviation from the operating regulations is authorized under 33 CFR 117.35 and will be performed with all due speed in order to return the bridge to normal operation as soon as possible.

Dated: August 30, 2001.
G.N. Naccara,
Rear Admiral, U.S. Coast Guard, Commander, First Coast Guard District.

[FR Doc. 01-22987 Filed 9-12-01; 8:45 am]

BILLING CODE 4910-15-U